NUCLEAR REGULATORY COMMISSION

Appointments to performance review boards for senior executive service

AGENCY: Nuclear Regulatory Commission.

ACTION: Appointment to Performance Review Boards for Senior Executive Service.

SUMMARY: The U.S. Nuclear Regulatory Commission (NRC) has announced the following appointments to the NRC Performance Review Boards.

The following individuals are appointed as members of the NRC Performance Review Board (PRB) responsible for making recommendations to the appointing and awarding authorities on performance appraisal ratings and performance awards for Senior Executives and Senior Level Service members:

Patricia G. Norry, Deputy Executive Director for Management Services

R. William Borchardt, Associate Director for Inspection and Programs, Office of Nuclear Reactor Regulation

Stephen G. Burns, Deputy General Counsel, Office of the General Counsel

Margaret V. Federline, Deputy Director, Office of Nuclear Materials Safety and Safeguards

Jesse L. Funches, Chief Financial Officer

Jon R. Johnson, Deputy Director, Office of Nuclear Reactor Regulation

Arnold E. Levin, Director, Applications Development Division, Office of the Chief Information Officer

Paul H. Lohaus, Director, Office of State and Tribal Programs

Hubert J. Miller, Regional Administrator, Region I

Michael L. Springer, Director, Office of Administration

Roy P. Zimmerman, Director, Office of Nuclear Regulatory Research

The following individuals will serve as members of the NRC PRB Panel that was established to review appraisals and make recommendations to the appointing and awarding authorities for NRC PRB members:

Karen D. Cyr, General Counsel, Office of the General Counsel

William F. Kane, Deputy Executive Director for Reactor Programs, Office of the Executive Director for Operations

Carl J. Paperiello, Deputy Executive Director for Materials, Research and State Programs, Office of the Executive Director for Operations

All appointments are made pursuant to Section 4314 of Chapter 43 of Title 5 of the United States Code.

EFFECTIVE DATE: April 11, 2001.

FOR FURTHER INFORMATION CONTACT: Carolyn J. Swanson, Secretary, Executive Resources Board, U.S. Nuclear Regulatory Commission, Washington, DC 20555, (301) 415-7530.

Dated at Rockville, Maryland, this 4th day of April 2001.
For the U.S. Nuclear Regulatory Commission.
Carolyn J. Swanson,
Secretary,
Executive Resources Board

[FR Doc. 01-8892 Filed 4-10-01; 8:45 am]

BILLING CODE 7590-01-P